DEPARTMENT OF TRANSPORTATION

Federal Aviation Administration

14 CFR Part 39

[Docket No. FAA-2010-0907; Directorate Identifier 2010-SW-044-AD; Amendment 39-16436; AD 2010-20-02]

RIN 2120-AA64

Airworthiness Directives; Eurocopter France (Eurocopter) Model AS332C, L, L1, and L2 Helicopters

AGENCY: Federal Aviation Administration, DOT.

ACTION: Final rule; request for comments.

SUMMARY: This amendment adopts a new airworthiness directive (AD) for the specified Eurocopter model helicopters. This action requires replacing each affected hydraulic pump with an airworthy hydraulic pump. This amendment is prompted by the loss of the proper functioning of a hydraulic pump because of the deterioration of the pump seals and the loss of hydraulic fluid caused by incorrect positioning of the piston liner. The actions specified in this AD are intended to prevent loss of hydraulic power and subsequent loss of control of the helicopter.

DATES: Effective October 15, 2010.

Comments for inclusion in the Rules Docket must be received on or before November 29, 2010.

ADDRESSES: Use one of the following addresses to submit comments on this AD:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from American Eurocopter Corporation, 2701 Forum Drive, Grand Prairie, TX 75053-4005, telephone (800) 232-0323, fax (972) 641-3710, or at http://www.eurocopter.com.

Examining the Docket: You may examine the docket that contains the AD, any comments, and other information on the Internet at http://www.regulations.gov, or in person at the Docket Operations office between 9 a.m. and 5 p.m., Monday through Friday, except Federal holidays. The Docket Operations office (telephone (800) 647-5527) is located in Room W12-140 on the ground floor of the West Building at the street address stated in the ADDRESSES section. Comments will be available in the AD docket shortly after receipt.

FOR FURTHER INFORMATION CONTACT: Ed Cuevas, Aviation Safety Engineer, FAA, Rotorcraft Directorate, Safety Management Group, 2601 Meacham Blvd., Fort Worth, Texas 76137, telephone (817) 222-5355, fax (817) 222-5961.

SUPPLEMENTARY INFORMATION:

Discussion

The European Aviation Safety Agency (EASA), which is the Technical Agent for the Member States of the European Community, has issued EASA Emergency AD No. 2010-0043R1-E, dated March 26, 2010, to correct an unsafe condition for the specified Eurocopter model helicopters. EASA advises of the loss of the right-hand (RH) hydraulic power system on an AS332L2 helicopter. The pilot saw the hydraulic system “low level” warning light come on during the approach phase. Investigation revealed a hydraulic fluid leak from the hydraulic pump casing due to deterioration of the pump seals resulting from an incorrectly positioned compensating piston liner. EASA states that this non-compliant repair process was used by the following repair stations: HELIKOPTER SERVICE, ASTEC HELICOPTER SERVICE, and HELI-ONE. They further state that if this condition occurs on both pumps of a helicopter, it could result in loss of the RH and left-hand (LH) hydraulic power systems and consequently may lead to the loss of helicopter controllability.

Related Service Information

Eurocopter has issued an Emergency Alert Service Bulletin (EASB) with two numbers (01.00.78 and 01.00.43), dated March 11, 2010. EASB No. 01.00.78 applies to United States type-certificated Model AS332C, L, L1, and L2 helicopters; civil Model AS332C1 not type-certificated in the United States; and military Model AS332B, B1, M, M1, and F1 helicopters that are not type-certificated in the United States. EASB No. 01.00.43 applies to military Model AS532A2, U2, UC, AC, UL, AL, SC, and UE helicopters that are not type-certificated in the United States. The EASB specifies identifying affected hydraulic pumps, prohibiting flights for all helicopters fitted with two of the affected hydraulic pumps until at least one of the affected pumps is replaced, replacing all affected hydraulic pumps with airworthy pumps within 10 months, and returning any affected hydraulic pump to have it checked and, where necessary, reconditioned.

EASA classified this EASB as mandatory and issued EASA Emergency AD No. 2010-0043R1-E, dated March 26, 2010, to ensure the continued airworthiness of these helicopters.

FAA's Evaluation and Unsafe Condition Determination

These helicopters have been approved by the aviation authority of France and are approved for operation in the United States. Pursuant to our bilateral agreement with France, EASA, their technical representative, has notified us of the unsafe condition described in the EASA AD. We are issuing this AD because we evaluated all information provided by EASA and determined the unsafe condition exists and is likely to exist or develop on other helicopters of these same type designs.

Differences Between This AD and the EASA AD

We refer to flight hours as hours time-in-service (TIS). We require each affected hydraulic pump be replaced with an airworthy pump within 15 hours TIS. We do not use the calendar date used in the EASA AD because that date has already passed.

FAA's Determination and Requirements of This AD

This unsafe condition is likely to exist or develop on other helicopters of the same type design. Therefore, this AD is being issued to prevent loss of the hydraulic power system and subsequent loss of control of the helicopter. This AD requires, within 15 hours TIS, replacing each affected hydraulic pump with an airworthy hydraulic pump or, if the replacement hydraulic pump is one to which this AD applies, the hydraulic pump must have been overhauled or repaired after February 1, 2010.

The short compliance time involved is required because the previously described critical unsafe condition can adversely affect the controllability of the helicopter. Therefore, replacing each affected hydraulic pump with an airworthy hydraulic pump is required within 15 hours TIS, a very short compliance time, and this AD must be issued immediately.

Since a situation exists that requires the immediate adoption of this regulation, it is found that notice and opportunity for prior public comment hereon are impracticable, and that good cause exists for making this amendment effective in less than 30 days.

Costs of Compliance

We estimate that this AD will affect about 6 helicopters of U. S. registry. We also estimate that it will take about ½ work-hour to review maintenance records for the presence of an affected hydraulic pump and 2 work-hours to change out a hydraulic pump. The average labor rate is $85 per work-hour. Required parts will cost about $40,448 to replace a hydraulic pump. Based on these figures, we estimate the cost of this AD on U.S. operators is $122,109, assuming 3 hydraulic pumps are replaced.

Comments Invited

This AD is a final rule that involves requirements that affect flight safety and was not preceded by notice and an opportunity for public comment; however, we invite you to submit any written data, views, or arguments regarding this AD. Send your comments to an address listed under ADDRESSES. Include “Docket No. FAA-2010-0907; Directorate Identifier 2010-SW-044-AD” at the beginning of your comments. We specifically invite comments on the overall regulatory, economic, environmental, and energy aspects of the AD. We will consider all comments received by the closing date and may amend the AD in light of those comments.

We will post all comments we receive, without change, to http://www.regulations.gov, including any personal information you provide. We will also post a report summarizing each substantive verbal contact with FAA personnel concerning this AD. Using the search function of the docket Web site, you can find and read the comments to any of our dockets, including the name of the individual who sent the comment. You may review the DOT's complete Privacy Act Statement in the Federal Register published on April 11, 2000 (65 FR 19477-78).

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2010-20-02 EUROCOPTER FRANCE: Amendment 39-16436; Docket No. FAA-2010-0907; Directorate Identifier 2010-SW-044-AD.

Applicability: Model AS332C, L, L1, and L2 helicopters, certificated in any category, with a MESSIER-BUGATTI hydraulic pump, part number C24160045, C24160045-1, C24160045-100, C24160046, C24160046-1, or C24160046-100, installed, which was overhauled or repaired by HELIKOPTER SERVICE, ASTEC HELICOPTER SERVICE, or HELI-ONE on or before February 1, 2010.

Compliance: Within 15 hours time-in-service, unless accomplished previously.

To prevent loss of the hydraulic power system and subsequent loss of control of the helicopter, do the following:

(a) Replace each affected hydraulic pump with an airworthy hydraulic pump. Do not install any hydraulic pump to which this AD applies unless the hydraulic pump has been overhauled or repaired after February 1, 2010 and is airworthy.

(b) To request a different method of compliance or a different compliance time for this AD, follow the procedures in 14 CFR 39.19. Contact the Manager; Safety Management Group, Rotorcraft Directorate, FAA, ATTN: Ed Cuevas, Aviation Safety Engineer, 2601 Meacham Blvd., Fort Worth, Texas 76137, telephone (817) 222-5355, fax (817) 222-5961, for information about previously approved alternative methods of compliance.

(c) The Joint Aircraft System/Component (JASC) Code is 2913: Hydraulic Pump.

(d) This amendment becomes effective on October 15, 2010.

Note: The subject of this AD is addressed in European Aviation Safety Agency Emergency AD No. 2010-0043R1-E, dated March 26, 2010, and Eurocopter Emergency Alert Service Bulletin No. 01.00.78 and No. 01.00.43, dated March 11, 2010.

Issued in Fort Worth, Texas, on September 9, 2010.
Mark R. Schilling,
Acting Manager, Rotorcraft Directorate, Aircraft Certification Service.

[FR Doc. 2010-24475 Filed 9-29-10; 8:45 am]

BILLING CODE 4910-13-P